DEPARTMENT OF DEFENSE

Department of the Army

Performance Review Board Membership for the U.S. Army Aviation and Missile Command

AGENCY: Department of the Army, DoD.

ACTION: Notice.

SUMMARY: Notice is given of the names of members of a Performance Review Board for the Department of the Army.

EFFECTIVE DATES: February 3, 2004.

FOR FURTHER INFORMATION CONTACT: Marilyn Ervin, U.S. Army Senior Executive Service Office, Assistant Secretary of the Army, Manpower & Reserve Affairs, 111 Army Pentagon, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the U.S. Army Aviation and Missile Command, U.S. Army Materiel Command are:

1. Major General John Doesburg, Commanding General, U.S. Army Research, Development and Engineering (RDE) Command, Aberdeen Proving Ground, MD.

2. Mr. Jerry Chapin, Deputy to the Commander, U.S. Army Tank-automotive & Armaments Command, Warren, MI.

3. Dr. James Chang, Director, Army Research Office, Research Triangle Park, NC.

4. Mr. Michael A. Parker, Deputy to the Commander, U.S. Army Soldier & Biological Chemical Command, Aberdeen Proving Ground, MD.

5. Ms. Barbara A. Leiby, Deputy Chief of Staff for Resource Management, Headquarters, U.S. Army Materiel Command, Fort Belvoir, VA.

6. Ms. Sue L Baker, Principal Deputy for G-3 Operations, Headquarters, U.S. Army Materiel Command, Fort Belvoir, VA.

7. Ms. Grace M. Bochenek, Vice President for Research, Tank-Automotive Research, Development and Engineering Center, Warren, MI.

Luz D. Ortiz,
Army Federal Register Liaison Officer.

[FR Doc. 04-2847 Filed 2-9-04; 8:45 am]

BILLING CODE 3710-08-M